NATIONAL SCIENCE FOUNDATION

Sunshine Act Meetings; National Science Board

The National Science Board, pursuant to NSF regulations (45 CFR part 614), the National Science Foundation Act, as amended, (42 U.S.C. 1862n-5), and the Government in the Sunshine Act (5 U.S.C. 552b), hereby gives notice of a revision to an announcement of meetings for the transaction of National Science Board business.

FEDERAL REGISTER CITATION OF PREVIOUS ANNOUNCEMENT: 83 FR 18351-53, published on April 26, 2018.

PREVIOUSLY ANNOUNCED TIME AND DATE OF THE MEETINGS:

Committee on Awards and Facilities (A&F)

Wednesday, May 2, 2018

Closed session: 2:00-4:00 p.m.

• Committee Chair's Opening Remarks

• Approval of Prior Minutes

• Action Item: Ocean Observatories Initiative (OOI) Operations and Management

• Information Item: Geodesy Advancing Geosciences (GAGE) Facility and the Seismological Facilities for the Advancement of Geosciences (SAGE)

• Action Item: Laser Interferometer Gravitational-Wave Observatory (LIGO) Operations and Maintenance

• Information Item: Candidate MREFC-funded Upgrades of the ATLAS and CMS Detectors at the Large Hadron Collider

CHANGES IN THE MEETINGS:

Wednesday, May 2, 2018

Closed session: 2:00-4:00 p.m.

• Committee Chair's Opening Remarks

• Approval of Prior Minutes

• Action Item: Ocean Observatories Initiative (OOI) Operations and Management

• Information Item: Geodesy Advancing Geosciences (GAGE) Facility and the Seismological Facilities for the Advancement of Geosciences (SAGE)

Thursday, May 3, 2018

Closed session: 8:00-8:30 a.m.

• Action Item: Laser Interferometer Gravitational-Wave Observatory (LIGO) Operations and Maintenance

• Information Item: Candidate MREFC-funded Upgrades of the ATLAS and CMS Detectors at the Large Hadron Collider

CONTACT PERSON FOR MORE INFORMATION: Brad Gutierrez, bgutierr@nsf.gov, 703/292-7000. Please refer to the National Science Board website for additional information. Meeting information and schedule updates (time, place, subject matter, and status of meeting) may be found at http://www.nsf.gov/nsb/meetings/notices.jsp#sunshine.

Chris Blair,
Executive Assistant, National Science Board Office.

[FR Doc. 2018-09751 Filed 5-3-18; 4:15 pm]

BILLING CODE 7555-01-P